DEPARTMENT OF DEFENSE

Office of the Secretary

32 CFR Part 283

[DOD-2006-OS-133; RIN 0790-AG90]

Waiver of Debts Resulting From Erroneous Payments of Pay and Allowances

AGENCY: Department of Defense.

ACTION: Final rule; correcting amendment.

SUMMARY: This rule corrects the final rule published on Friday, September 29, 2006 (71 FR 57427) regarding the authority citation. All other information remains unchanged.

EFFECTIVE DATE: September 29, 2006.

FOR FURTHER INFORMATION CONTACT: Michael Hipple, 703-696-8510.

As published, the final rule published at 71 FR 57427 did not cite the authority for the rule which is required for all rulemaking documents.

List of Subjects in 32 CFR Part 283

Administrative practice and procedure, Armed Forces, Waivers.

According, 32 CFR part 283 is corrected by making the following correcting amendment:

PART 283—WAIVER OF DEBTS RESULTING FROM ERRONEOUS PAYMENTS OF PAY AND ALLOWANCES

The authority citation for part 283 is added to read as follows:

Authority: 10 U.S.C. 2575, 2771, 4712, 9712; 24 U.S.C. 420; 31 U.S.C. 3529, 3702; 32 U.S.C. 714; 37 U.S.C. 554.

Dated: October 2, 2006.
L.M. Bynum,
OSD Federal Register Liaison Officer, DoD.

[FR Doc. 06-8531 Filed 10-5-06; 8:45 am]

BILLING CODE 5001-06-M